DEPARTMENT OF THE INTERIOR

Bureau of Land Management

[LLCO956000-L14200000-BJ0000]

Notice of Filing of Plats

AGENCY: Bureau of Land Management, Interior.

ACTION: Notice of filing of plats.

SUMMARY: The BLM is publishing this notice to inform the public of the intent to file the land survey plats listed below, and to afford all affected parties a proper period of time to protest this action, prior to the plat filing.

DATES: Unless there are protests of this action, the filing of the plats described in this notice will happen on November 13, 2009.

ADDRESSES: Colorado State Office (CO-956), Bureau of Land Management, 2850 Youngfield Street, Lakewood, Colorado 80215-7093.

FOR FURTHER INFORMATION CONTACT: Paul Lukacovic, Acting Chief Cadastral Surveyor for Colorado, (303) 239-3818.

SUPPLEMENTARY INFORMATION: The plat and field notes, of the dependent resurveys and surveys in Township 5 North, Range 92 West, Sixth Principal Meridian, Colorado, were accepted on January 27, 2009.

The plat and field notes, of the dependent resurvey of certain mineral surveys in Township 42 North, Range 7 West, New Mexico Principal Meridian, Colorado, were accepted on February 24, 2009.

The plat and field notes, of the dependent resurvey, in Township 2 North, Range 72 West, Sixth Principal Meridian, Colorado, were accepted on March 11, 2009.

The plat and field notes, of the dependent resurvey, in Townships 39 North, Ranges 6 and 7 East, New Mexico Principal Meridian, Colorado, were accepted on March 26, 2009.

The plat and field notes, of the dependent resurvey, in Township 37 North, Range 10 West, New Mexico Principal Meridian, Colorado, were accepted on March 31, 2009.

The plat and field notes, of the dependent resurvey and surveys, in Township 51 North, Range 7 West, New Mexico Principal Meridian, Colorado, were accepted on May 7, 2009.

The plat and field notes, of the dependent resurvey, in Townships 1 and 2 North, Range 72 West, Sixth Principal Meridian, Colorado, were accepted on May 20, 2009.

The plat and field notes, of the dependent resurvey, in Townships 14 and 15 South, Range 83 West, Sixth Principal Meridian, Colorado, were accepted on June 4, 2009.

The plat and field notes, of the dependent resurvey, in Township 16 South, Range 71 West, Sixth Principal Meridian, Colorado, were accepted on June 9, 2009.

The supplemental plat of Sections 15 in Township 3 South, Range 73 West, Sixth Principal Meridian, Colorado, was accepted on July 20, 2009.

The supplemental plat of Section 3 in Township 18 South, Range 70 West, Sixth Principal Meridian, Colorado, was accepted on August 31, 2009.

The plat and field notes, of the dependent resurvey of a portion of the Colorado-New Mexico State Line (S. bdy.), a portion of the Colorado-Utah State Line (W. bdy.) and the subdivisional lines of Township 32 North, Range 20 West, of the New Mexico Principal Meridian, Colorado, were accepted on September 24, 2009.

The plat and field notes, of the dependent resurvey and survey in Township 41 North, Range 7 West, New Mexico Principal Meridian, Colorado, were accepted on September 30, 2009.

The plat and field notes, of the dependent resurvey of certain mineral surveys in Township 3 South, Range 73 West, Sixth Principal Meridian, Colorado, were accepted on September 30, 2009.

If a protest of any of these projects is received prior to the date of the official filing, the official filing of that project will be stayed pending consideration of the merits of the protest.

Dated: October 7, 2009.
Paul Lukacovic,
Acting Chief Cadastral Surveyor for Colorado.

[FR Doc. E9-24658 Filed 10-13-09; 8:45 am]

BILLING CODE 4310-JB-P